DEPARTMENT OF AGRICULTURE

Animal and Plant Health Inspection Service

[Docket No. APHIS-2021-0049]

Notice of Availability of an Environmental Assessment for Release of Lophodiplosis indentata for Biological Control of Melaleuca quinquenervia (Myrtaceae) in the Contiguous United States

AGENCY: Animal and Plant Health Inspection Service, USDA.

ACTION: Notice of availability.

SUMMARY: We are advising the public that the Animal and Plant Health Inspection Service has prepared an environmental assessment (EA) relative to permitting the release of Lophodiplosis indentata (Diptera: Cecidomyiidae) for the biological control of Melaleuca quinquenervia (Myrtaceae) in the contiguous United States. Based on the EA and other relevant data, we have reached a preliminary determination that the release of this control agent within the contiguous United States will not have a significant impact on the quality of the human environment. We are making the EA available to the public for review and comment.

DATES: We will consider all comments that we receive on or before January 18, 2022.

ADDRESSES: You may submit comments by either of the following methods:

• Federal eRulemaking Portal: Go to www.regulations.gov. Enter APHIS-2021-0049 in the Search field. Select the Documents tab, then select the Comment button in the list of documents.

• Postal Mail/Commercial Delivery: Send your comment to Docket No. APHIS-2021-0049, Regulatory Analysis and Development, PPD, APHIS, Station 3A-03.8, 4700 River Road, Unit 118, Riverdale, MD 20737-1238.

Supporting documents and any comments we receive on this docket may be viewed at www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737; (301) 851-2327; email: Colin.Stewart@usda.gov.

SUPPLEMENTARY INFORMATION: The Animal and Plant Health Inspection Service (APHIS) is proposing to issue permits for the release of the fly, Lophodiplosis indentata (Diptera: Cecidomyiidae), into the contiguous United States for use as a biological control agent of Melaleuca quinquenervia (Myrtaceae) (hereinafter referred to as melaleuca).

Melaleuca, a large tree native to Australia, New Caledonia, and Papua New Guinea, was imported into Florida in the late 19th century. It was planted extensively in Palm Beach, Broward, Collier, and Miami-Dade Counties. Unsuccessful treatment campaigns during the 1970s and 1980s culminated in Federal and State listing of melaleuca as a noxious weed. By the 1990s, melaleuca covered more than 200,000 hectares of wetlands in south Florida. It dramatically disrupted normal water cycles, fire cycles, disturbance recovery cycles, nutrient cycling, light availability, and tree canopy. Despite gains in controlling melaleuca using three other biological control insects (Oxyops vitiosa, Boreioglycaspis melaleucae, and Lophodiplosis trifida), aerial herbicides, and other control efforts, many localized areas in Florida are still overwhelmed by melaleuca.

The fly, Lophodiplosis indentata, is a gall-forming melaleuca specialist that lays eggs on new foliage of the tree. When the eggs hatch, the emerging larvae bore into leaf tissue, instigating a gall (an abnormal growth) to form around them. These galls distort young foliage and result in reduced sapling height.

A permit application has been submitted to APHIS for the purpose of releasing L. indentata into the contiguous United States for use as a biological control agent to add to the impact of the three previously released biological control agents in reducing the severity of melaleuca infestations.

APHIS' review and analysis of the proposed action are documented in detail in an environmental assessment (EA), titled “Field Release of Lophodiplosis indentata (Diptera: Cecidomyiidae), for classical biological control of Melaleuca quinquenervia (Myrtaceae), in the contiguous United States” (March 2021). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 13th day of December 2021.
Mark Davidson,
Administrator, Animal and Plant Health Inspection Service.

[FR Doc. 2021-27254 Filed 12-15-21; 8:45 am]

BILLING CODE 3410-34-P